FEDERAL MARITIME COMMISSION

Notice of Agreements Filed

The Commission hereby gives notice of the filing of the following agreements under the Shipping Act of 1984. Interested parties may submit comments on the agreements to the Secretary, Federal Maritime Commission, Washington, DC 20573, within twelve days of the date this notice appears in the Federal Register. Copies of the agreements are available through the Commission's Web site (www.fmc.gov) or by contacting the Office of Agreements at (202)-523-5793 or tradeanalysis@fmc.gov.

Agreement No.: 012182-002.

Title: Hyundai Glovis/Eukor Car Carriers Inc. Space Charter Agreement.

Parties: Hyundai Glovis Co. Ltd. and Eukor Car Carriers Inc.

Filing Party: Wayne R. Rohde, Esq.; Cozen O'Connor; 1200 Nineteenth Street NW., Washington DC 20036.

Synopsis: The amendment adds the U.S. Gulf Coast (including Puerto Rico) to the geographic scope of the Agreement.

Agreement No.: 012437.

Title: MOL/NMCC/WLS/WWL Space Charter Agreement.

Parties: Mitsui O.S.K. Lines, Ltd.; Nissan Motor Car Carrier Co., Ltd.; World Logistics Service (U.S.A.) Inc.; and Wallenius Wilhelmsen Logistics AS.

Filing Party: Eric C. Jeffrey, Esq.; Nixon Peabody; 799 9th Street NW., Suite 500; Washington, DC 20001.

Synopsis: The agreement authorizes the parties to charter space to one another on an as needed, as available, basis for the carriage of vehicles and other Ro-Ro cargo in the trades between the United States and all foreign countries.

Agreement No.: 012438.

Title: CSAV/“K” Line Belgium/Germany/East Coast United States Car Carrier Agreement.

Parties: Kawasaki Kisen Kaisha, Ltd.; and Compania Sud Americana de Vapores S.A.

Filing Party: John P. Meade, Esq.; General Counsel; “K” Line America, Inc.; 6199 Bethlehem Road; Preston, MD 21655.

Synopsis: The Agreement authorizes CSAV to charter space from K Line on ro/ro vessels in the trade between Germany, Belgium, and the U.S. East Coast.

By Order of the Federal Maritime Commission.
Dated: October 21, 2016.
Rachel E. Dickon,
Assistant Secretary.

[FR Doc. 2016-25903 Filed 10-25-16; 8:45 am]

BILLING CODE 6731-AA-P